DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Sierra Northern Railroad Company

[Waiver Petition Docket Number FRA-2010-0129]

The Sierra Northern Railroad Company (SERA) seeks a waiver of compliance from certain provisions of the Railroad Freight Car Safety Standards, 49 CFR 215.303, which requires stenciling of restricted cars according to § 215.203. SERA owns one gondola and four box cars modified as “open air concession car” to be used on SERA's tourist and dinner train operations in Sacramento and the Stanislaus Valley Area. The freight equipment subject to this petition are more than 50 years of age from their original date of construction, and is therefore restricted under § 215.203(a). In the same petition, SERA also requested a Special Approval to continue in service of these equipment in according with § 215.203(b).

To support its petition to seek relief from the stenciling requirements, SERA states that the cars subject to this waiver are operated on a 19-mile portion of the Oakdale Division between Oakdale and Cooperstown, California, and on the Sacramento Division for 14 miles between Woodland and Lovdal Siding near West Sacramento, California. SERA does not interchange the freight equipment subject to this petition with the general system of transpiration. These cars have remained on the respective divisions since acquired for tourist and dinner train service. The maximum speed of operation is 20 miles per hour, and the cars are typically operated no more than 40 miles in a day and approximately 75 days per year. SERA also stated that there has not been an equipment-related derailment of any SERA tourist or dinner train since 1995. These cars are painted to match passenger cars. Stenciling according to § 215.303 would be disruptive to the appearance of the train and might invite unwarranted concerns by passengers.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0129) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on September 28, 2010.
Robert C. Lauby,
Deputy Associate Administrator for Regulatory and Legislative Operations.

[FR Doc. 2010-25001 Filed 10-4-10; 8:45 am]

BILLING CODE 4910-06-P